DEPARTMENT OF TRANSPORTATION

Federal Aviation Administration

14 CFR Part 71

[Docket No. FAA-2017-1188; Airspace Docket No. 17-AEA-23]

RIN 2120-AA66

Amendment of Class D Airspace and Class E Airspace; Wrightstown, PA

AGENCY: Federal Aviation Administration (FAA), DOT.

ACTION: Final rule.

SUMMARY: This action amends Class D airspace, Class E airspace designated as an extension to a Class D surface area, and Class E airspace extending upward from 700 feet above the surface by updating the airport name to McGuire Field (Joint Base McGuire-Dix-Lakehurst). This action also amends Class E airspace extending upward from 700 feet above the surface in Wrightstown, NJ, by updating the name and geographic coordinates of Ocean County Airport (formerly Robert J. Miller Airpark, Toms River, NJ). Also, an editorial change is made where necessary, removing the city from the airport name in the airspace designation. Controlled airspace is necessary for the safety and management of instrument flight rules (IFR) operations in the area. This action also updates the geographic coordinates of the Lakehurst (Navy) TACAN and Colts Neck VOR/DME.

DATES: Effective 0901 UTC, September 13, 2018. The Director of the Federal Register approves this incorporation by reference action under title 1, Code of Federal Regulations, part 51, subject to the annual revision of FAA Order 7400.11 and publication of conforming amendments.

ADDRESSES: FAA Order 7400.11B, Airspace Designations and Reporting Points, and subsequent amendments can be viewed online at http://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11B at NARA, call (202) 741-6030, or go to https://www.archives.gov/federal-register/cfr/ibr-locations.html.

FAA Order 7400.11, Airspace Designations and Reporting Points, is published yearly and effective on September 15.

FOR FURTHER INFORMATION CONTACT: John Fornito, Operations Support Group, Eastern Service Center, Federal Aviation Administration, 1701 Columbia Ave, College Park, GA 30337; telephone (404) 305-6364.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends Class D and Class E airspace in Wrightstown, NJ to support IFR operations in the area.

History

The FAA published a notice of proposed rulemaking in the Federal Register (83 FR 12511, March 22, 2018) for Docket No. FAA-2017-1188 to amend Class D airspace, Class E airspace designated as an extension to a Class D surface area, and Class E airspace extending upward from 700 feet or more above the surface at McGuire Field (Joint Base McGuire-Dix-Lakehurst), Wrightstown, NJ (formerly McGuire AFB (Joint Base McGuire-Dix-Lakehurst), and Ocean County Airport, (formerly Robert J. Miller Airpark).

Interested parties were invited to participate in this rulemaking effort by submitting written comments on the proposal to the FAA. No comments were received.

Class D and E airspace designations are published in paragraph 5000, 6004, and 6005, respectively, of FAA Order 7400.11B dated August 3, 2017, and effective September 15, 2017, which is incorporated by reference in 14 CFR part 71.1. The Class D and E airspace designations listed in this document will be published subsequently in the Order.

Availability and Summary of Documents for Incorporation by Reference

This document amends FAA Order 7400.11B, Airspace Designations and Reporting Points, dated August 3, 2017, and effective September 15, 2016. FAA Order 7400.11B is publicly available as listed in the ADDRESSES section of this document. FAA Order 7400.11B lists Class A, B, C, D, and E airspace areas, air traffic service routes, and reporting points.

The Rule

This amendment to Title 14 Code of Federal Regulations (14 CFR) part 71 amends Class D airspace, Class E airspace designated as an extension to a Class D surface area, and Class E airspace extending upward from 700 feet or more above the surface by updating the names of McGuire Field (Joint Base McGuire-Dix-Lakehurst), (formerly McGuire AFB), Wrightstown, NJ, and Ocean County Airport, (formerly Robert J. Miller Airpark, Toms River, NJ).

The geographic coordinates of the Ocean County Airport, Lakehurst (Navy) TACAN, and Colts Neck VOR/DME also are adjusted in the associated airspace listed above to coincide with the FAA's aeronautical database. These changes enhance the safety and management of IFR operations in the area.

An editorial change is also made to the Class E airspace extending upward from 700 feet above the surface by removing the city from the airport names listed to comply with a change to FAA Order 7400.2L, Procedures for Handling Airspace Matters, and removing the exclusionary language from the airspace description.

Regulatory Notices and Analyses

The FAA has determined that this regulation only involves an established body of technical regulations for which frequent and routine amendments are necessary to keep them operationally current. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of Federal Aviation Administration Order 7400.11B, Airspace Designations and Reporting Points, dated August 3, 2017, effective September 15, 2017, is amended as follows:

Paragraph 5000 Class D Airspace.

* * * * *

AEA NJ D Wrightstown, NJ [Amended]

McGuire Field (Joint Base McGuire-Dix-Lakehurst), NJ

(Lat. 40°00′56″ N, long. 74°35′30″ W)

That airspace extending upward from the surface to and including 2,600 feet MSL within a 4.5-mile radius of McGuire Field (Joint Base McGuire-Dix-Lakehurst).

Paragraph 6004 Class E Airspace Designated as an Extension to a Class D Surface Area.

* * * * *

AEA NJ E4 Wrightstown, NJ [Amended]

McGuire Field (Joint Base McGuire-Dix-Lakehurst), NJ

(Lat. 40°00′56″ N, long. 74°35′30″ W)

McGuire VORTAC

(Lat. 40°00′34″ N, long. 74°35′47″ W)

That airspace extending upward from the surface within 1.8 miles each side of the McGuire VORTAC 350° radial extending from the 4.5-mile radius of McGuire Field (Joint Base McGuire-Dix-Lakehurst), to 6.1 miles north of the VORTAC and within 1.8 miles each side of the McGuire VORTAC 051° radial extending from the 4.5-mile radius of the airport to 6.1 miles northeast of the VORTAC and within 1.8 miles each side of the McGuire VORTAC 180° radial extending from the 4.5-mile radius of the airport to 5.2 miles south of the VORTAC, and within 1.8 miles each side of the McGuire Field (Joint Base McGuire-Dix-Lakehurst), ILS localizer southwest course extending from the 4.5-mile radius of the airport to 7 miles southwest of the localizer.

Paragraph 6005 Class E Airspace Areas Extending Upward From 700 Feet or More Above the Surface of the Earth.

* * * * *

AEA NJ E5 Wrightstown, NJ [Amended]

Lakewood Airport, NJ

(Lat. 40°04′00″ N, long. 74°10′40″ W)

McGuire Field (Joint Base McGuire-Dix-Lakehurst), NJ

(Lat. 40°00′56″ N, long. 74°35′30″ W)

Trenton-Robbinsville Airport, NJ

(Lat. 40°12′50″ N, long. 74°36′06″ W)

Monmouth Executive Airport, NJ

(Lat. 40°11′12″ N, long. 74°07′28″ W)

Ocean County Airport, NJ

(Lat. 39°55′34″ N, long. 74°17′44″ W)

Lakehurst (Navy) TACAN

(Lat. 40°02′13″ N, long. 74°21′11″ W)

Colts Neck VOR/DME

(Lat. 40°18′42″ N, long. 74°09′35″ W)

Coyle VORTAC

(Lat. 39°49′02″ N, long. 74°25′54″ W)

Robbinsville VORTAC

(Lat. 40°12′09″ N, long. 74°29′42″ W)

That airspace extending upward from 700 feet above the surface within a 6.4-mile radius of Lakewood Airport, and within a 10.5-mile radius of McGuire Field (Joint Base McGuire-Dix-Lakehurst), and within an 11.3-mile radius of the Lakehurst (Navy) TACAN extending clockwise from the TACAN 310° radial to the 148° radial and within 4.4 miles each side of the Coyle VORTAC 031° radial extending from the VORTAC to 11.3 miles northeast, and within 2.6 miles southwest and 4.4 miles northeast of the Lakehurst (Navy) TACAN 148° radial extending from the TACAN to 12.2 miles southeast, and within a 6.4-mile radius of Trenton-Robbinsville Airport and within 5.7 miles north and 4 miles south of the Robbinsville VORTAC 278° and 098° radials extending from 4.8 miles west to 10 miles east of the VORTAC, and within a 6.7-mile radius of Monmouth Executive Airport and within 1.8 miles each side of the Colts Neck VOR/DME 167° radial extending from the Monmouth Executive Airport 6.7-mile radius to the VOR/DME and within 4 miles each side of the 312° bearing from Monmouth Executive airport extending from the 6.7-mile radius of the airport to 9 miles northwest of the airport and within a 6.5-mile radius of Ocean County Airport and within 1.3 miles each side of the Coyle VORTAC 044° radial extending from the 6.5-mile radius to the VORTAC.

Issued in College Park, Georgia, on July 2, 2018.
Ryan W. Almasy,
Manager, Operations Support Group, Eastern Service Center, Air Traffic Organization.

[FR Doc. 2018-14668 Filed 7-9-18; 8:45 am]

BILLING CODE 4910-13-P